DEPARTMENT OF ENERGY

Federal Energy Regulatory Commission

Notice of Commissioner and Staff Attendance at WIRAB and CREPC Meetings

April 20, 2010.

The Federal Energy Regulatory Commission hereby gives notice that members of the Commission and/or Commission staff may attend the following meetings:

April 21-22, 2010

Committee on Regional Electric Power Cooperation (CREPC): DoubleTree, Lloyd Executive Center, 1000 NE Multnomah, Portland, OR 97232.

Further information may be found at: http://www.westgov.org/wieb/site/crepcpage/crepupco.htm.

April 21, 2010

Western Interconnection Regional Advisory Body (WIRAB): DoubleTree, Lloyd Executive Center, 1000 NE Multnomah, Portland, OR 97232.

Further information may be found at: http://www.westgov.org/wirab/site/upco.htm.

The discussions at the meetings, which are open to the public, may address matters at issue in the following Commission proceedings:

Docket No. RC08-4, North American Electric Reliability Corporation.

Docket No. RC08-5, North American Electric Reliability Corporation.

Docket No. RR08-4, North American Electric Reliability Corporation.

Docket No. RR09-6, North American Electric Reliability Corporation.

Docket No. RR09-7, North American Electric Reliability Corporation.

Docket No. RR10-6, North American Electric Reliability Corporation.

Docket No. RR10-7, North American Electric Reliability Corporation.

Docket No. RR10-8, North American Electric Reliability Corporation.

Docket No. RD09-4, North American Electric Reliability Corporation.

Docket No. RD09-5, North American Electric Reliability Corporation.

Docket No. RD09-7, North American Electric Reliability Corporation.

Docket No. RD09-8, North American Electric Reliability Corporation.

Docket No. RD09-11, North American Electric Reliability Corporation.

Docket No. RD10-2, North American Electric Reliability Corporation.

Docket No. RD10-3, North American Electric Reliability Corporation.

Docket No. RD10-4, North American Electric Reliability Corporation.

Docket No. RD10-5, North American Electric Reliability Corporation.

Docket No. RD10-6, North American Electric Reliability Corporation.

Docket No. RD10-8, North American Electric Reliability Corporation.

For further information, please contact John Carlson, 202-502-6288, or john.carlson@ferc.gov.

Kimberly D. Bose,
Secretary.

[FR Doc. 2010-9685 Filed 4-26-10; 8:45 am]

BILLING CODE 6717-01-P